DEPARTMENT OF TRANSPORTATION

Office of the Secretary

Notice of Order Soliciting Community Proposals

AGENCY: Department of Transportation.

ACTION: Notice of Order Soliciting Community Proposals (Order 2005-1-12) Docket OST-2005-20127.

SUMMARY: The Department of Transportation is soliciting proposals from communities or consortia of communities interested in receiving a grant under the Small Community Air Service Development Program. The full text of the Department's order is attached to this document.

DATES: Grant Proposals should be submitted no later than April 22, 2005.

ADDRESSES: Interested parties should submit an original and two copies of their proposals bearing the title “Proposal under the Small Community Air Service Development Program, Docket OST-2005-20127, as well as the name of the applicant community or consortium of communities, the legal sponsor, and the applicant's DUNS number to Dockets Operations and Media Management, M-30, Room PL-401, Department of Transportation, 400 7th Street, SW., Washington, DC 20590.

FOR FURTHER INFORMATION CONTACT: Teresa Bingham, Associate Director, Office of Aviation Analysis, 400 7th Street, SW., Washington, DC 20590, (202) 366-1032.

Dated: January 19, 2005.
Karan K. Bhatia,
Assistant Secretary for Aviation and International Affairs.

[FR Doc. 05-1430 Filed 1-25-05; 8:45 am]

BILLING CODE 4910-62-P